DEPARTMENT OF HOMELAND SECURITY

Coast Guard

33 CFR Parts 100, 117, 147, and 165

[USCG-2018-0496]

2018 Quarterly Listings; Safety Zones, Security Zones, Special Local Regulations, Drawbridge Operation Regulations and Regulated Navigation Areas

AGENCY: Coast Guard, DHS.

ACTION: Notification of expired temporary rules issued.

SUMMARY: This document provides notification of substantive rules issued by the Coast Guard that were made temporarily effective but expired before they could be published in the Federal Register. This document lists temporary safety zones, security zones, special local regulations, drawbridge operation regulations and regulated navigation areas, all of limited duration and for which timely publication in the Federal Register was not possible.

DATES: This document lists temporary Coast Guard rules that became effective, primarily during the period between April 2018 and June 2018, unless otherwise indicated, and were terminated before they could be published in the Federal Register.

ADDRESSES: Temporary rules listed in this document may be viewed online, under their respective docket numbers, using the Federal eRulemaking Portal at http://www.regulations.gov.

FOR FURTHER INFORMATION CONTACT: For questions on this document contact Yeoman First Class David Hager, Office of Regulations and Administrative Law, telephone (202) 372-3862.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register may be precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated.

The following unpublished rules were temporarily in effect during the period between April 2018 and June 2018, unless otherwise indicated. To view copies of these rules, visit www.regulations.gov and search by the docket number indicated in the following table.

Docket No. | Type | Location | Effective date
USCG-2017-1014 | Safety Zones | Tumon, GU | 12/31/2017
USCG-2018-0069 | Safety Zones | Chicago, IL | 3/5/2018
USCG-2018-0162 | Safety Zones | Chicago, IL | 3/10/2018
USCG-2017-0965 | Safety Zones | Fear River, NC | 4/1/2018
USCG-2018-0217 | Safety Zones | Galveston, TX | 4/4/2018
USCG-2018-0161 | Safety Zones | Channohon, IL | 4/6/2018
USCG-2018-0032 | Safety Zones | Charleston, SC | 4/7/2018
USGC-2018-0230 | Safety Zones | Tanapag Harbor, Saipan | 4/7/2018
USCG-2018-0249 | Safety Zones | Long Beach, NY | 4/7/2018
USCG-2018-0015 | Safety Zones | Tuscaloosa, AL | 4/12/2018
USCG-2018-0056 | Safety Zones | Charleston, SC | 4/12/2018
USCG-2018-0231 | Safety Zones | Corpus Christi, TX | 4/14/2018
USCG-2018-0306 | Safety Zones | Marinette, WI | 4/14/2018
USCG-2018-0344 | Security Zones | Palm Beach, FL | 4/15/2018
USCG-2018-0357 | Safety Zones | Marinette, WI | 4/17/2018
USCG-2018-0076 | Safety Zones | Cairo, IL | 4/19/2018
USCG-2017-1076 | Special Local Regulations | Miami, FL | 4/22/2018
USCG-2018-0081 | Safety Zones | Myrtle Beach, SC | 4/22/2018
USCG-2018-0255 | Special Local Regulations | Key West, FL | 4/27/2018
USCG-2018-0256 | Safety Zones | Key West, FL | 4/28/2018
USCG-2018-0375 | Safety Zones | Piti, GU | 5/1/2018
USCG-2018-0124 | Special Local Regulations | Harford, MD | 5/5/2018
USCG-2018-0377 | Safety Zones | Parish, LA | 5/6/2018
USCG-2018-0334 | Safety Zones | New Orleans, LA | 5/7/2018
USCG-2018-0215 | Safety Zones | Washington, DC | 5/10/2018
USCG-2018-0374 | Safety Zones | Apra Outer Harbor, GU | 5/15/2018
USCG-2018-0417 | Safety Zones | Vieques, Puerto Rico | 5/18/2018
USCG-2018-0093 | Special Local Regulations | Cambridge, MD | 5/20/2018
USCG-2018-0210 | Safety Zones | Cocoa Beach, FL | 5/20/2018
USCG-2018-0351 | Safety Zones | Tampa, FL | 5/22/2018
USCG-2018-0474 | Security Zones | New London, CT | 5/23/2018
USCG-2017-1078 | Safety Zones | Calcaieu Parish, LA | 5/25/2018
USCG-2012-1036 | Special Local Regulations | Sector Long Island | 5/25/2018
USCG-2018-0462 | Special Local Regulations | Miami, FL | 5/25/2018
USCG-2018-0381 | Safety Zones | Alexandria Bay, NY | 5/26/2018
USCG-2018-0510 | Safety Zones | Lake Huron | 5/30/2018
USCG-2018-0482 | Safety Zones | Seattle, WA | 5/30/2018
USCG-2018-0222 | Safety Zones | Jacksonville, FL | 6/1/2018
USCG-2018-0358 | Special Local Regulations | New London, CT | 6/9/2018
USCG-2016-0509 | Security Zones | North Shore, Guam | 6/12/2018
USCG-2018-0373 | Safety Zones | Philadelphia, PA | 6/13/2018
USCG-2018-0027 | Safety Zones | Inlet, WA | 6/14/2018
USCG-2018-0314 | Special Local Regulations | St. Petersburg, FL | 6/15/2018
USCG-2018-0554 | Drawbridges | Sacramento, CA | 6/16/2018
USCG-2018-0570 | Safety Zones | Chester, WV | 6/16/2018
USCG-2018-0557 | Safety Zones | Newburg, MD | 6/16/2018
USCG-2018-0595 | Safety Zones | Superior, WI | 6/17/2018
USCG-2018-0589 | Safety Zones | Mobile, AL | 6/19/2018
USCG-2018-0296 | Special Local Regulations | Ocean City, MD | 6/23/2018
USCG-2018-0174 | Safety Zones | Seattle, Washington | 6/26/2018
USCG-2018-0367 | Safety Zones | Philadelphia, PA | 6/30/2018

Dated: August 27, 2018.
Katia Kroutil,
Office Chief, Office of Regulations and Administrative Law, United States Coast Guard.

[FR Doc. 2018-18852 Filed 8-29-18; 8:45 am]

BILLING CODE 9110-04-P